DEPARTMENT OF ENERGY

Federal Energy Regulatory Commission

[Docket No. RP03-329-000]

ANR Pipeline Company; Notice of Tariff Filing

April 3, 2003.

Take notice that on March 31, 2003, ANR Pipeline Company (ANR), tendered for filing as part of its FERC Gas Tariff, Second Revised Volume No. 1, the following tariff sheets, with an effective date of May 1, 2003:

Ninth Revised Sheet No. 10

Fifth Revised Sheet No. 46

Third Revised Sheet No. 47

Second Revised Sheet No. 48

Fifth Revised Sheet No. 49

First Revised Sheet No. 49A

Second Revised Sheet No. 50

Fourth Revised Sheet No. 51

Third Revised Sheet No. 80

Fifth Revised Sheet No. 84

Sixth Revised Sheet No. 85

Fifth Revised Sheet No. 91

First Revised Sheet No. 96

Second Revised Sheet No. 101A

Original Sheet No. 101B

ANR states that the revised tariff sheets are being filed in order to provide more flexibility to its current firm storage service, by primarily modifying the time frame within which storage service can be sold. ANR also proposes to adopt a time line defining under which circumstances ANR must consider requests and accept or reject requests for any service at maximum rates.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-9259 Filed 4-11-03; 8:45 am]

BILLING CODE 6717-01-P